DEPARTMENT OF TRANSPORTATION

Surface Transportation Board

[STB Finance Docket No. 34631]

Union Pacific Railroad Company—Acquisition and Operation Exemption—Line of Denver Terminal Railroad Company, d/b/a Denver Rock Island Railroad

AGENCY: Surface Transportation Board, DOT.

ACTION: Notice of exemption.

SUMMARY: Under 49 U.S.C. 10502, the Board is granting a petition for exemption from the prior approval requirements of 49 U.S.C. 11323-25 for Union Pacific Railroad Company to acquire and operate approximately 3.23 miles of rail line of the Denver Terminal Railroad Company, d/b/a Denver Rock Island Railroad (DRIR), extending from DRIR milepost 0.72 near Sandown to DRIR milepost 3.95 at Belt Junction, in Denver, CO, subject to standard labor protective conditions.

DATES: The exemption will be effective on May 1, 2005. Petitions to stay must be filed by April 18, 2005. Petitions to reopen must be filed by April 26, 2005.

ADDRESSES: Send an original and 10 copies of all pleadings referring to STB Finance Docket No. 34631 to: Surface Transportation Board, 1925 K Street, NW., Washington, DC 20423-0001. In addition, send one copy of all pleadings to petitioner's representative, Robert T. Opal, General Commerce Counsel, 1400 Douglas Street, Stop 1580, Omaha, NE 68179-0001.

FOR FURTHER INFORMATION CONTACT: Eric S. Davis, (202) 565-1608. (Assistance for the hearing impaired is available through the Federal Information Relay Service (FIRS) at 1-800-877-8339.)

SUPPLEMENTARY INFORMATION: Additional information is contained in the Board's decision. To purchase a copy of the full decision, write to, e-mail, or call: ASAP Document Solutions, 9332 Annapolis Rd., Suite 103, Lanham, MD 20706; e-mail asapdc@verizon.net; telephone (202) 306-4004. (Assistance for the hearing impaired is available through FIRS at 1-800-877-8339.)

Board decisions and notices are available on our Web site at http://www.stb.dot.gov.

Decided: March 24, 2005.
By the Board, Chairman Nober, Vice Chairman Buttrey, and Commissioner Mulvey.
Vernon A. Williams,
Secretary.

[FR Doc. 05-6277 Filed 3-31-05; 8:45 am]

BILLING CODE 4915-01-P